SMALL BUSINESS ADMINISTRATION

[Declaration of Disaster #3440]

State of Wisconsin

As a result of the President's major disaster declaration on September 10, 2002, I find that Barron, Burnett, Chippewa, Clark, Dunn, Langlade, Lincoln, Marathon, Polk, Portage, Price, Rusk, Sawyer, Shawano, St. Croix, Taylor, Washburn, Waupaca and Wood Counties in the State of Wisconsin constitute a disaster area due to damages caused by severe storms, tornadoes and flooding occurring on September 2, 2002. Applications for loans for physical damage as a result of this disaster may be filed until the close of business on November 12, 2002 and for economic injury until the close of business on June 10, 2003 at the address listed below or other locally announced locations: Small Business Administration, Disaster Area 2 Office, One Baltimore Place, Suite 300, Atlanta, GA 30308.

In addition, applications for economic injury loans from small businesses located in the following contiguous counties may be filed until the specified date at the above location: Adams, Ashland, Bayfield, Brown, Douglas, Eau Clair, Forest, Iron, Jackson, Juneau, Menominee, Oconto, Oneida, Outagamie, Pepin, Pierce, Vilas, Waushara and Winnebago in the State of Wisconsin; Chisago, Pine and Washington counties in the State of Minnesota.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury:
Businesses and Small Agricultural Cooperatives Without Credit Available Elsewhere | 3.500

The number assigned to this disaster for physical damage is 344011. For economic injury the number is 9R5100 for Wisconsin; and 9R5200 for Minnesota.

(Catalog of Federal Domestic Assistance Program Nos. 59002 and 59008)

Dated: September 11, 2002.
Allan I. Hoberman,
Acting Associate Administrator for Disaster Assistance.

[FR Doc. 02-23598 Filed 9-16-02; 8:45 am]

BILLING CODE 8025-01-P